FEDERAL MARITIME COMMISSION

46 CFR Part 502

[Docket No. 11-05]

RIN 3072-AC43

Amendments to Commission's Rules of Practice and Procedure—Subparts E and L; Correction

AGENCY: Federal Maritime Commission.

ACTION: Final rule; correction.

SUMMARY: The Federal Maritime Commission (Commission) is correcting a final rule that appeared in the Federal Register of October 10, 2012 (77 FR 61519). The final rule revises the Commission's rules of practice and procedure to update and clarify the rules and to reduce the burden on parties to proceedings before the Commission. This document corrects errors in the final rule.

DATES: Effective: November 12, 2012.

FOR FURTHER INFORMATION CONTACT: Karen V. Gregory, Secretary, Federal Maritime Commission, 800 North Capitol Street NW., Washington, DC 20573-0001, Phone: (202) 523-5725, Email: secretary@fmc.gov.

SUPPLEMENTARY INFORMATION: In the final rule for the Commission's Rules of Practice and Procedure (Commission Docket No. 11-05) appearing on page 61519 in the Federal Register of Wednesday, October 10, 2012, the following corrections are made:

§ 502.62 [Corrected]

1. On page 61524, in the third column, in § 502.62(a)(3)(iii), remove “; and” at the end of the paragraph and add in its place “, and a statement showing that the complainant is entitled to relief;”

2. In paragraph (a)(3)(iv), remove a period at the end of the paragraph and add in its place “; and”

3. On page 61525, in the first column, in paragraph (b)(2)(iii), remove “, and a statement showing that the complainant is entitled to relief;” at the end of the paragraph and add in its place “; and”

4. In paragraph (b)(2)(iv), remove “; and” at the end of the paragraph and add in its place a period.

Karen V. Gregory,
Secretary.

[FR Doc. 2012-26007 Filed 10-22-12; 8:45 am]

BILLING CODE 6730-01-P